ENVIRONMENTAL PROTECTION AGENCY

40 CFR Part 300

[FRL-7947-2]

National Oil and Hazardous Substance Pollution Contingency Plan; National Priorities List

AGENCY: Environmental Protection Agency.

ACTION: Notice of intent to delete the Rhinehart Tire Fire Dump Superfund Site from the National Priorities List.

SUMMARY: The Environmental Protection Agency (EPA) Region III is issuing a notice of intent to delete the Rhinehart Tire Fire Dump Superfund Site (Site) located near Winchester, Virginia from the National Priorities List (NPL) and requests public comments on this notice of intent. The NPL, promulgated pursuant to section 105 of the Comprehensive Environmental Response, Compensation, and Liability Act of 1980, as amended (CERCLA), is found at Appendix B of 40 CFR part 300, which is the National Oil and Hazardous Substances Pollution Contingency Plan (NCP). EPA and the Commonwealth of Virginia, through the Virginia Department of Environmental Quality (VDEQ), have determined that all appropriate response actions under CERCLA have been completed at the Site. However, this deletion does not preclude future actions under CERCLA.

In the “Rules and Regulations” section of today's Federal Register, EPA is publishing a direct final notice of deletion of the Rhinehart Tire Fire Dump Site without prior notice of intent to delete because EPA views this as a noncontroversial deletion and anticipates no adverse comment. EPA has explained its reasons for this deletion in the direct final notice of deletion. If EPA receives no adverse comment(s) on this notice of intent to delete or the direct final notice of deletion, EPA will take no further action. If EPA receives adverse comment(s), EPA will withdraw the direct final notice of deletion and it will not take effect. EPA will, as appropriate, address all public comments in a subsequent final deletion notice based on this notice of intent to delete. EPA will not institute a second comment period on this notice of intent to delete. Any parties interested in commenting must do so at this time. For additional information, see the Direct Final Notice of Deletion which is located in the “Rules and Regulations” section of this Federal Register.

DATES: Comments concerning this Site must be received by August 31, 2005.

ADDRESSES: Written comments should be addressed to: Andrew Palestini, Remedial Project Manager, U.S. EPA Region III (3HS23), 1650 Arch Street, Philadelphia, PA 19103-2029, Palestini.andy@epa.gov, (215) 814-3233.

FOR FURTHER INFORMATION CONTACT: Andrew Palestini, Remedial Project Manager, U.S. EPA Region III (3HS23), 1650 Arch Street, Philadelphia, PA 19103-2029, Palestini.andy@epa.gov, (215) 814-3233 or 1-800-553-2509.

SUPPLEMENTARY INFORMATION: For additional information, see the Direct Final Notice of Deletion which is located in the “Rules and Regulations” section of this Federal Register.

Information Repositories: Repositories have been established to provide detailed information concerning this decision at the following addresses: U.S. EPA Region III, Regional Center for Environmental Information (RCEI), 1650 Arch Street (2nd Floor), Philadelphia, PA 19103-2029, (215) 814-5254, Monday through Friday, 8 a.m. to 5 p.m.; and in Virginia at the Handley Library, 100 West Piccadilly Street, Winchester, VA 22601, (540) 662-9041 ext. 23. Hours of operation are: Monday through Wednesday, 10 a.m. to 8 p.m. and Thursday through Saturday, 10 a.m. to 5 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: July 26, 2005.
Donald S. Welsh,
Regional Administrator, U.S. EPA Region III.

[FR Doc. 05-15152 Filed 7-29-05; 8:45 am]

BILLING CODE 6560-50-P